DEPARTMENT OF HOMELAND SECURITY

Coast Guard

33 CFR Parts 140 and 146

[Docket No. USCG-2013-0797]

RIN 1625-AC12

Notice of Arrival Exception

AGENCY: Coast Guard, DHS.

ACTION: Final rule.

SUMMARY: The Coast Guard is amending its regulations to implement a statutory change, enacted under section 704 of the Coast Guard and Maritime Transportation Act of 2012, exempting U.S. mobile offshore drilling units and other U.S. vessels from submitting a Notice of Arrival when moving directly from one Outer Continental Shelf block area to another.

DATES: This final rule is effective June 27, 2014.

ADDRESSES: Documents mentioned in this preamble as being available in the docket (USCG-2013-0797) are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0797 in the “Search” box, and then clicking “Search.”

FOR FURTHER INFORMATION CONTACT: If you have questions on this rule, call or email Mr. Dennis Fahr, Office of Operating and Environmental Standards (CG-OES), Coast Guard; telephone 202-372-1427, email Dennis.Fahr@usg.mil. If you have questions on viewing the docket, call Ms. Cheryl Collins, Program Manager, Docket Operations, telephone 202-366-9826.

SUPPLEMENTARY INFORMATION:

Table of Contents for Preamble

I. Abbreviations

II. Regulatory History

III. Basis and Purpose

IV. Background

V. Discussion of Final Rule

VI. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

2012 CGMTA Coast Guard and Maritime Transportation Act of 2012

APA Administrative Procedure Act

BOE Bureau of Ocean Energy Management, Regulation and Enforcement

BOEM Bureau of Ocean Energy Management

BOEMRE Bureau of Ocean Energy Management, Regulation and Enforcement

BSEE Bureau of Safety and Environmental Enforcement

DHS Department of Homeland Security

E.O. Executive Order

FR Federal Register

MODU Mobile Offshore Drilling Unit

NOA Notice of Arrival

NVMC National Vessel Movement Center

OCS Outer Continental Shelf

OMB Office of Management and Budget

U.S.C. United States Code

II. Regulatory History

Section 704 of the Coast Guard and Maritime Transportation Act of 2012 (Pub. L. 112-213) (2012 CGMTA) specifically exempts U.S. mobile offshore drilling units (MODUs) and other U.S. vessels from the requirement to submit a Notice of Arrival (NOA) when transiting within the Outer Continental Shelf (OCS) unless the vessel is arriving from a foreign port or place. Under section 704, U.S. MODUs and other U.S. vessels are exempt from having to submit an NOA when moving from one OCS block area to another.

The Coast Guard is issuing this final rule without prior notice and opportunity to comment pursuant to section 4(a) of the Administrative Procedure Act (APA) (5 U.S.C. 553(b)). This provision authorizes an agency to issue a rule without prior notice and opportunity to comment when the agency for good cause finds that those procedures are “impracticable, unnecessary, or contrary to the public interest.”

Under 5 U.S.C. 553(b)(B), the Coast Guard finds that good cause exists for not publishing an NPRM with respect to this rule because it is unnecessary. The Coast Guard finds that notice and comment for this rulemaking is unnecessary because we are merely making a regulatory amendment to conform to section 704 of the 2012 CGMTA, which specifically exempts U.S. MODUs and other U.S. vessels traveling between OCS block areas from having to submit an NOA. Public notice of this regulatory amendment is, therefore, unnecessary because public comment cannot affect, influence, or inform any Coast Guard action in implementing the Congressionally-mandated NOA exemption for U.S. MODUs and other U.S. vessels traveling between OCS block areas.

In accordance with 5 U.S.C. 553(d)(1) and (3), this rule will become effective upon the date of publication in the Federal Register. Under 5 U.S.C. 553(d)(1), an agency is permitted to make “a substantive rule which grants or recognizes an exemption or relieves a restriction . . .” to become immediately effective. The Coast Guard is making this rule effective immediately because it recognizes the legislative exemption provided to U.S. MODUs and other U.S. vessels from the requirement to submit an NOA when traveling between OCS block areas. Additionally, the Coast Guard finds that good cause exists for making this rule effective immediately upon publication in the Federal Register pursuant to 5 U.S.C. 553(d)(3). Delaying the effective date to provide a full 30 day notice is unnecessary because the rule merely makes a regulatory amendment to conform to the legislation passed by Congress under section 704 of the 2012 CGMTA.

III. Basis and Purpose

The purpose of this rulemaking is to implement the legislative exemption provided under section 704 of the 2012 CGMTA, which exempts U.S. MODUs and other U.S. vessels traveling between OCS block areas from having to submit an NOA. Under current regulations in 33 CFR part 146, subparts C and E, U.S. MODUs and vessels are required to submit an NOA when moving from one OCS block area to another. In order to align 33 CFR part 146, subparts C and E with the NOA exemption provided under the 2012 CGMTA, we are amending §§ 146.215 and 146.401 by specifically exempting U.S. MODUs and other U.S. vessels from having to submit an NOA when traveling directly from one OCS block area to another. U.S. MODUs and vessels arriving directly from a foreign port or place, however, would still be subject to the NOA requirements under 33 CFR 146.215 and 146.405.

Sections 146.215 and 146.401 already contain an NOA exemption for “those U.S. MODUs arriving directly from a U.S. port or place” and “those U.S. vessels traveling directly from a U.S. port or place” respectively; however, §§ 146.215 and 146.405 require NOAs when a MODU or vessel “arrives. . .from a different OCS block area.” Whether an OCS block area is considered a “U.S. port or place,” thus exempting U.S. MODUs or other U.S. vessels traveling from one block area to another from the NOA OCS requirements provided under §§ 146.215 and 146.405, depends on the definitions of “U.S. port or place” and “OCS block area.” A “U.S. port or place” is determined by U.S. Customs and Border Protection through a fact-specific customs ruling. “OCS block area” is defined in both subparts C and E as “the names given by the Bureau of Ocean Energy Management, Regulation and Enforcement (BOE) ¹ [which succeeded the Minerals Management Service (MMS) in 2010] ² to define the OCS areas used to facilitate management or leasing on the OCS.” Because the authority has not expressly addressed whether “U.S. port or place” and “OCS block area” are analogous, we are implementing the legislative exemption contained in section 704 of the 2012 CGMTA by adding “OCS block area” to the existing exemptions in §§ 146.215 and 146.401. Therefore, U.S. MODUs and other U.S. vessels arriving on the OCS directly from a different OCS block area, as well as those MODUs and vessels arriving from a U.S. port or place, would be exempt from the NOA OCS requirements. Also, to reflect the reorganization of MMS into BOEMRE in 2010, and subsequently BOEMRE into BOEM and BSEE in 2011, we are amending §§ 140.10, 140.101 (b through d), 140.103 (b and c) and 140.105(a through e). We are also amending §§ 146.102, 146.200, 146.402 and 146.405(b)(2) to reflect the current title and acronym of “BOEM”, which is called “BOE” in this section of our existing regulations.

¹ On October 1, 2011, BOE was split into the Bureau of Ocean Energy Management (BOEM) and the Bureau of Safety and Environmental Enforcement (BSEE), 76 FR 64432.

² 75 FR 61051.

IV. Background

On January 13, 2011, the Coast Guard published a final rule in the Federal Register (76 FR 2254) that established the NOA requirements for vessels, facilities, and MODUs operating on the OCS. The final rule was designed to enhance maritime domain awareness over OCS activities. The rule increased maritime security and safety by requiring U.S. and foreign-flagged vessels, floating facilities, and MODUs arriving on and/or engaging in OCS activities to report their arrival time; location; and information regarding the floating facilities; MODUs; and the vessel's voyage, cargo, crew, and vessel information.

The “OCS” is defined in 33 CFR 140.10 to include “all submerged lands lying seaward and outside of the area of `lands beneath navigable waters' as defined in section 2(a) of the Submerged Lands Act (43 U.S.C. 1301(a)) and of which the subsoil and seabed appertain to the United States and are subject to its jurisdiction and control.” “OCS activity” is defined in 33 CFR 140.10 as “any offshore activity associated with the exploration for, or development or production of, the minerals of the Outer Continental Shelf.”

The rule implemented provisions of the Security and Accountability for Every Port Act of 2006 and increased overall maritime domain awareness by requiring owners or operators of U.S. and foreign-flagged vessels, floating facilities, and MODUs to submit NOA information to the Coast Guard's National Vessel Movement Center (NVMC) prior to engaging in OCS activities. Such information is critical to maritime safety and security and enables the Coast Guard to more effectively prevent or respond to a safety or security concern on the OCS.

The January 13, 2011, NOA final rule and related materials may be viewed online at http://www.regulations.gov, docket number: USCG-2008-1088.

Upon publication of that final rule, the U.S. domestic offshore industry indicated that compliance with the final rule was difficult because of the nature of the services that these vessels provide when engaged in activities on the OCS. Through our partnership with the Offshore Marine Service Association, we established a working group to specifically address the design of an OCS-specific reporting form.

In the intervening time between the effective date of the 2011 NOA final rule and the 2012 CGMTA, we requested voluntary compliance with the 2011 final rule using the current e-NOA-OCS application so that we could ascertain the practicality of the current application and the information requested. This voluntary compliance period allowed us to gather information as to what was needed to reduce the reporting burden. In December 2012, the 2012 CGMTA was signed into law. It contains a section that exempts U.S. MODUs and other U.S. documented vessels from reporting block-to-block movements and filing an NOA unless arriving on the OCS directly from a foreign port.

V. Discussion of Final Rule

Through this rulemaking, we are amending §§ 146.215 and 146.401 by exempting U.S. MODUs and other U.S. vessels from having to submit an NOA when traveling directly from one OCS block area to another. These regulatory amendments are necessary in order to conform to the legislation passed by Congress under section 704 of the 2012 CGMTA, which specifically exempts U.S. MODUs and other U.S. vessels traveling between OCS block areas from having to submit an NOA. We are also making a non-substantive amendment to §§ 140.10, 140.101, 140.103, 140.105, 146, 102, 146.200, 146.402 and 146.405 to reflect the current title and acronym for BOEM and BSEE.

VI. Regulatory Analyses

We developed this rule after considering numerous statutes and executive orders (E.O.s) related to rulemaking. Below we summarize our analyses based on these statutes or E.O.s.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

This rule has not been designated a “significant regulatory action” under section 3(f) of E.O. 12866 as supplemented by E.O. 13563, and does not require an assessment of potential costs and benefits under section 6(a)(3) of E.O. 12866. Accordingly, the final rule has not been reviewed by the Office of Management and Budget (OMB). Nonetheless, we developed an analysis of the costs and benefits of the rule to ascertain its probable impacts on industry. A final Regulatory Assessment follows:

This final rule will implement a statutory change that exempts U.S. MODUs and U.S. vessels from submitting NOAs to the NVMC when transiting from one OCS block area to another, as defined above. This rule will align our regulations with section 704 of the 2012 CGMTA, which specifically exempts these vessels from submitting NOAs when traveling from one OCS block area to another. U.S. MODUs and vessels arriving from a U.S. port or place and traveling to the OCS and those same vessels that travel from the OCS to a U.S. port or place are exempt from submitting NOAs in 33 CFR part 146. However, based on Coast Guard data, no NOAs have been received from affected U.S. vessel owners and operators since December 2012, when the CGMTA was signed into law. Therefore, this rule will not have an economic impact on owners and operators of U.S. MODUs and vessels that transit the OCS.

All vessels arriving from a foreign port or place to an OCS block area and vessels departing from an OCS block area traveling to a foreign port or place are still required to submit NOAs to the NVMC in accordance with 33 CFR part 146 as these vessels are not exempt under this final rule.

In the development of this rule, we considered two alternatives (including the preferred alternative). The key factors that we evaluated in considering each alternative included: (1) The degree to which the alternative comported with the congressional mandate in section 704 of the 2012 CGMTA; (2) what benefits, if any, would be derived, such as the reduction in burden for vessel owners and operators; and (3) impacts on costs, if any. The alternatives considered are as follows:

Alternative 1: Revise 33 CFR part 146 to remove the current submission requirement of an NOA for owners and operators of U.S. MODUs and vessels that transit from one OCS block area to another (preferred alternative). At present, owners and operators of U.S. MODUs and vessels are required to submit a NOA to the NVMC when departing from or arriving to one OCS block area to another. Implementation of this final rule will eliminate the NOA submission requirement for the above affected vessels.

Alternative 2: Take no regulatory action. This option was not selected as it would not implement section 704 of the 2012 CGMTA. Under this alternative, regulatory language would remain inconsistent with section 704 of the 2012 CGMTA and current practice.

Analysis of Alternatives

We chose Alternative 1, which implements section 704 of the Act as described in Section V of the preamble above. We chose to reject Alternative 2, the “no regulatory action” alternative, because it would not implement section 704 of the Act and would not harmonize regulatory language with the statute.

Costs

We do not expect this final rule to impose new costs on the public or industry. This final rule will align our regulations with section 704 of the 2012 CGMTA, which exempts U.S. MODUs and vessels from submitting NOAs to the NVMC when traveling from one OCS block area to another.

Benefits

This rule makes conforming regulatory amendments to the legislation passed by Congress under section 704 of the 2012 CGMTA, which specifically exempts U.S. MODUs and other U.S. vessels traveling between OCS block areas from having to submit an NOA. By conforming the regulations to the legislation, we eliminate any potential for confusion regarding whether an NOA must be submitted when U.S. MODUs and U.S. vessels travel from one OCS block area to another. The Coast Guard has determined that because there have been no NOAs submitted to the NVMC since passage of the 2012 CGMTA, there are no cost savings attributable to this final rule.

Small Entities

The Regulatory Flexibility Act of 1980 (RFA), 5 U.S.C. 601-612, as amended, requires federal agencies to consider the potential impact of regulations on small entities during rulemaking. However, we are implementing this legislative exemption in section 704 of the 2012 CGMTA as a final rule, foregoing notice and comment under 5 U.S.C. 553(b)(B) and the RFA does not require an agency to prepare a regulatory flexibility analysis for rules promulgated under section 553(b)(B). Therefore, the Coast Guard is not required to publish a regulatory flexibility analysis.

C. Assistance for Small Entities

Under section 213(a) of the Small Business Regulatory Enforcement Fairness Act of 1996 (Pub. L. 104-121), we offered to assist small entities in understanding the rule so that they could better evaluate its effects on them and participate in the rulemaking. If the rule affects your small business, organization, or governmental jurisdiction and you have questions concerning its provisions or options for compliance, please consult Lieutenant Commander Michael Lendvay, Office of Commercial Vessel Compliance, Coast Guard; telephone 202 372-1218, email michael.d.lendvay@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520). On December 20, 2012, the 2012 CGMTA was passed, which exempts U.S. vessels and MODUs that transit from one OCS block area to another from submitting NOAs to the NVMC. As a result, vessel owners and operators have not submitted NOAs since that time. This change has been incorporated into the ICR burden estimates during its renewal. Therefore no collection of information is necessary from this final rule.

E. Federalism

A rule has implications for federalism under E.O. 13132, Federalism, if it has a substantial direct effect on the States, on the relationship between the national government and the States, or on the distribution of power and responsibilities among the various levels of government. We have analyzed this rule under that Order and have determined that it is consistent with the fundamental federalism principles and preemption requirements described in E.O. 13132. Our analysis is explained below.

Congress specifically granted the authority to the Secretary of the Department in which the Coast Guard is operating to regulate artificial islands, installations, and other devices permanently or temporarily attached to the OCS and in the waters adjacent thereto as it relates to the safety of life. Title 43 U.S.C. 1333(d)(1) states that the Secretary “shall have the authority to promulgate and enforce such reasonable regulations with respect to lights and other warning devices, safety equipment, and other matters relating to the promotion of safety of life and property on the artificial islands, installations, and other devices . . . or on the waters adjacent thereto, as he may deem necessary.” As this rule exempts certain MODUs and vessels from submitting NOAs when transiting from one OCS block area to another, it falls within the scope of authority Congress granted exclusively to the Secretary, especially since the rule implements a statutory change enacted by Congress under section 704 of the 2012 CGMTA. This authority has been delegated to the Coast Guard and is exercised in this rulemaking, and the States may not regulate within this category of arrival notification. Therefore, the rule is consistent with the principles of federalism and preemption requirements in E.O. 13132.

While it is well settled that States may not regulate in categories in which Congress intended the Coast Guard to be the sole source of a vessel's obligations, the Coast Guard recognizes the key role that State and local governments may have in making regulatory determinations. Additionally, for rules with federalism implications and preemptive effect, E.O. 13132 specifically directs agencies to consult with State and local governments during the rulemaking process. If you believe this rule has implications for federalism under E.O. 13132, please contact the person listed in the FOR FURTHER INFORMATION CONTACT section of this preamble.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under E.O. 12630, Governmental Actions and Interference with Constitutionally Protected Property Rights.

H. Civil Justice Reform

This rule meets applicable standards in sections 3(a) and 3(b)(2) of E.O. 12988, Civil Justice Reform, to minimize litigation, eliminate ambiguity, and reduce burden.

I. Protection of Children

We have analyzed this rule under E.O. 13045, Protection of Children From Environmental Health Risks and Safety Risks. This rule is not an economically significant rule and does not create an environmental risk to health or risk to safety that may disproportionately affect children.

J. Indian Tribal Governments

This rule does not have tribal implications under E.O. 13175, Consultation and Coordination With Indian Tribal Governments, because it does not have a substantial direct effect on one or more Indian tribes, on the relationship between the Federal Government and Indian tribes, or on the distribution of power and responsibilities between the Federal Government and Indian tribes.

K. Energy Effects

We have analyzed this rule under E.O. 13211, Actions Concerning Regulations That Significantly Affect Energy Supply, Distribution, or Use. We have determined that it is not a “significant energy action” under that order because it is not a “significant regulatory action” under E.O. 12866 and is not likely to have a significant adverse effect on the supply, distribution, or use of energy. The Administrator of the Office of Information and Regulatory Affairs has not designated it as a significant energy action. Therefore, it does not require a Statement of Energy Effects under E.O. 13211.

L. Technical Standards

The National Technology Transfer and Advancement Act (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. A final environmental analysis checklist and a categorical exclusion determination are available in the docket where indicated under ADDRESSES. This rule involves Congressionally mandated regulations.

List of Subjects

33 CFR Part 140

Continental shelf, Investigations, Marine safety, Occupational safety and health, Penalties, Reporting and recordkeeping requirements.

33 CFR Part 146

Continental shelf, Marine safety, Occupational safety and health, Reporting and recordkeeping requirements, Vessels.

For the reasons discussed in the preamble, the Coast Guard amends 33 CFR parts 140 and 146 as follows:

TITLE 33—NAVIGATION AND NAVIGABLE WATERS

PART 140—GENERAL

1. The authority citation for part 140 continues to read as follows:

Authority: 43 U.S.C. 1333, 1348, 1350, 1356; Department of Homeland Security Delegation No. 0170.1.

§ 140.10 [Amended]

2. In § 140.10, in the definition of Bureau of Ocean Energy Management, Regulation and Enforcement inspector or BOEMRE inspector, remove the text “Ocean Energy Management, Regulation and Enforcement inspector or BOEMRE” and add, in its place, the text, “Safety and Environmental Enforcement inspector or BSEE”; and after the text “employed by the Bureau of”, remove the text “Ocean Energy Management, Regulation and” and add, in its place, the text “Safety and Environmental”.

3. Amend § 140.101 as follows:

a. Revise the section heading;

b. In paragraph (b), after the words “by the Bureau of”, remove the words “Ocean Energy Management, Regulation and Enforcement (BOEMRE)” and add, in its place, the words “Safety and Environmental Enforcement (BSEE)”;

c. In paragraph (c), remove the text “BOEMRE” wherever it appears and add, in its place, the text “BSEE”; and

d. In paragraph (d), in the first sentence, after the words “Coast Guard marine inspector or,” remove the words “an BOEMRE” and add, in its place, the words “a BSEE”; and after the text “The Coast Guard marine inspector or the”, remove the text “BOEMRE” and add, in its place, the text “BSEE”.

The revision reads as follows:

§ 140.101 Inspection by Coast Guard marine inspectors or Bureau of Safety and Environmental Enforcement inspectors.

* * * * *

§ 140.103 [Amended]

4. Amend § 140.103 as follows:

a. In paragraph (b), after the words “Bureau of”, remove the words “Ocean Energy Management, Regulation and Enforcement (BOEMRE)” and add, in its place, the words “Safety and Environmental Enforcement (BSEE)”; and

b. In paragraph (c), remove the text “BOEMRE” wherever it appears and add, in its place, the text “BSEE”.

§ 140.105 [Amended]

5. Amend § 140.105 as follows:

a. In paragraph (a), remove the text “Minerals Management Service (MMS) and add, in its place, the words “Bureau of Safety and Environmental Enforcement (BSEE)”;

b. In paragraph (b), remove the words “an MMS” and add, in its place, the words “a BSEE”; and

c. In paragraphs (c), (d), and (e) remove the text “MMS” wherever it appears and add, in its place, the text “BSEE”; and

PART 146—OPERATIONS

6. The authority citation for part 146 continues to read as follows:

Authority: 33 U.S.C. 1223, 1226; 43 U.S.C. 1333, 1348, 1350, 1356; Sec. 109, Pub. L. No. 109-347, 120 Stat. 1884; Department of Homeland Security Delegation No. 0170.1.

§ 146.102 [Amended]

7. In § 146.102, in the definition of “OCS block area”, after the words “Bureau of Ocean Energy Management”, remove the text “, Regulation and Enforcement (BOE)” and add, in its place, the text “(BOEM)”.

§ 146.200 [Amended]

8. In § 146.200, in the definition of “OCS block area”, after the words “Bureau of Ocean Energy Management” remove the text “, Regulation and Enforcement (BOE)” and add, in its place, the text “(BOEM)”.

§ 146.215 [Amended]

9. In § 146.215(a) introductory text, after the words “directly from a U.S. port or place”, add the words “or from an OCS block area”.

§ 146.401 [Amended]

10. In § 146.401, after the words “directly from a U.S. port or place,”, add the words “or from an OCS block area,”.

§ 146.402 [Amended]

11. In § 146.402, in the definition of “OCS block area”, after the words “Bureau of Ocean Energy Management” remove the text “, Regulation and Enforcement (BOE)” and add, in its place, the text “(BOEM)”.

§ 146.405 [Amended]

12. In § 146.405(b)(2), remove the text “BOE” and add, in its place, the text “BOEM”.

Dated: June 23, 2014.
J. G. Lantz,
Director of Commercial Regulations and Standards, U.S. Coast Guard.

[FR Doc. 2014-14997 Filed 6-26-14; 8:45 am]

BILLING CODE 9110-04-P